DEPARTMENT OF HEALTH AND HUMAN SERVICES

National Institutes of Health

National Library of Medicine; Notice of Partially Closed Meetings

Pursuant to section 1009 of the Federal Advisory Committee Act, as amended, notice is hereby given of a meeting of the National Library of Medicine Board of Scientific Counselors.

The meeting will be held in person and virtually and will be partially open to the public as indicated below. Individuals who plan to view the virtual meeting and need special assistance or other reasonable accommodation to view the meeting should notify the Contact Person listed below in advance of the meeting. The meeting can be accessed from the NIH Videocast at the following link: https://videocast.nih.gov/.

The meeting will be closed to the public in accordance with the provisions set forth in sections 552b(c)(4) and 552b(c)(6), Title 5 U.S.C., as amended. The grant applications and the discussions could disclose confidential trade secrets or commercial property such as patentable materials, and personal information concerning individuals associated with the grant applications, the disclosure of which would constitute a clearly unwarranted invasion of personal privacy.

Name of Committee: National Library of Medicine Board of Scientific Counselors.

Date: April 23, 2026.

Open: April 23, 2026, 9:00 a.m. to 10:20 a.m.

Agenda: Program Discussion and Investigator Report.

Closed: April 23, 2026, 10:20 a.m. to 11:05 a.m.

Agenda: To review and evaluate personal qualifications, performance, and competence of individual investigators.

Open: April 23, 2026, 11:20 a.m. to 12:05 p.m.

Agenda: Program Discussion and Investigator Report.

Closed: April 23, 2026, 12:05 p.m. to 12:50 p.m.

Agenda: To review and evaluate personal qualifications, performance, and competence of individual investigators.

Open: April 23, 2026, 1:20 p.m. to 2:05 p.m.

Agenda: Program Discussion and Investigator Report.

Closed: April 23, 2026, 2:05 p.m. to 2:50 p.m.

Agenda: To review and evaluate personal qualifications, performance, and competence of individual investigators.

Open: April 23, 2026, 3:05 p.m. to 3:35 p.m.

Agenda: Program Discussion and Investigator Report.

Closed: April 23, 2026, 3:50 p.m. to 4:35 p.m.

Agenda: To review and evaluate personal qualifications, performance, and competence of individual investigators.

Open: April 24, 2026, 9:00 a.m. to 9:45 a.m.

Agenda: Program Discussion and Investigator Report.

Closed: April 24, 2026, 9:45 a.m. to 10:30 a.m.

Agenda: To review and evaluate personal qualifications, performance, and competence of individual investigators.

Open: April 24, 2026, 10:45 a.m. to 12:00 p.m.

Agenda: Program Discussion and Investigator Report.

Closed: April 24, 2026, 12:45 p.m. to 1:30 p.m.

Agenda: To review and evaluate personal qualifications, performance, and competence of individual investigators.

Address: National Library of Medicine, 8600 Rockville Pike, Bethesda, MD 20892.

Meeting Format: Virtual Meeting.

Contact Person: Michelle Krever, Extramural Programs, National Library of Medicine, National Institutes of Health, 6705 Rockledge Drive, Suite 500, Bethesda, MD 20892, 301-496-6132, kreverm1@mail.nih.gov.

Registration is not required to attend the open portion of this meeting.

Any member of the public may submit written comments no later than 15 days in advance of the meeting. Any interested person may file written comments with the committee by forwarding the statement to the Contact Person listed on this notice. The statement should include the name, address, telephone number and when applicable, the business or professional affiliation of the interested person.

Open sessions will be videocast and can be accessed from the NIH Videocasting and Podcasting website (http://videocast.nih.gov/) on April 30, 2025. Please direct any questions to the Contact Person listed on this notice.

(Catalogue of Federal Domestic Assistance Program No. 93.879, Medical Library Assistance, National Institutes of Health, HHS)

Dated: January 15, 2026.
Denise M. Santeufemio,
Supervisory Program Analyst, Office of Federal Advisory Committee Policy.

[FR Doc. 2026-00972 Filed 1-16-26; 8:45 am]

BILLING CODE 4140-01-P